INTERNATIONAL TRADE COMMISSION

[USITC SE-10-002]

Government in the Sunshine Act Meeting

AGENCY HOLDING THE MEETING: United States International Trade Commission.

ORIGINAL DATE AND TIME: February 12, 2010 at 11 a.m.

NEW DATE AND TIME: February 19, 2010 at 11 a.m.

PLACE: 500 E Street SW., Washington, DC 20436, Telephone: (202) 205-2000.

STATUS: Open to the public.

In accordance with 19 CFR 201.35(d)(1), the Commission has determined to reschedule the meeting of 11 a.m., February 12, 2010 to 11 a.m., February 19, 2010. Earlier announcement of this rescheduling was not possible.

By order of the Commission.

Issued: February 9, 2010.
Marilyn R. Abbott,
Secretary to the Commission.

[FR Doc. 2010-3247 Filed 2-16-10; 4:15 pm]

BILLING CODE 7020-02-P